DEPARTMENT OF COMMERCE

International Trade Administration

[A-475-828]

Stainless Steel Butt-Weld Pipe Fittings From Italy: Preliminary Results and Partial Rescission of Antidumping Duty Administrative Review; 2017-2018

AGENCY: Enforcement and Compliance, International Trade Administration, Department of Commerce.

SUMMARY: The Department of Commerce (Commerce) preliminarily finds that Filmag Italia Spa (Filmag) did not make sales of stainless steel butt-weld pipe fittings (SSBW pipe fittings) from Italy at less than normal value during the period of review (POR) February 1, 2017, through January 31, 2018. In addition, we are rescinding the review in part with respect to one company for which the request for review was timely withdrawn. Interested parties are invited to comment on these preliminary results.

DATES: Applicable April 19, 2019.

FOR FURTHER INFORMATION CONTACT: John Drury or Kent Boydston, AD/CVD Operations, Office VI, Enforcement and Compliance, International Trade Administration, U.S. Department of Commerce, 1401 Constitution Avenue NW, Washington, DC 20230; telephone: (202) 482-0195 or (202) 482-5649, respectively.

SUPPLEMENTARY INFORMATION:

Background

On April 16, 2018, Commerce published in the Federal Register the notice of initiation of an administrative review of the AD order on SSBW pipe fittings from Italy for the period February 1, 2017, through January 31, 2018.¹ Commerce initiated a review with respect to two companies, Filmag and Tectubi Raccordi Spa (Tectubi). On April 26, 2018, Tectubi certified that it had no shipments of subject merchandise to the United States during the review period. On May 14, 2018, the petitioners, Core Pipe Products, Inc., Shaw Alloy Piping Products, LLC, and Taylor Forge Stainless Inc., withdrew their request for an administrative review of Tectubi.

¹ See Initiation of Antidumping and Countervailing Duty Administrative Reviews, 83 FR 16298 (April 16, 2018).

On October 31, 2018, Commerce extended the preliminary results of review until February 8, 2019.² Additionally, Commerce exercised its discretion to toll all deadlines affected by the partial federal government closure from December 22, 2018, through the resumption of operations on January 29, 2019. If the new deadline falls on a non-business day, in accordance with Commerce's practice, the deadline will become the next business day.³ On March 15, 2019, Commerce extended the preliminary results of review until April 9, 2019.

² See Memorandum to James Maeder, Associate Deputy Assistant Secretary for Antidumping and Countervailing Duty Operations performing the duties of Deputy Assistant Secretary for Antidumping and Countervailing Duty Operations, from Kent C. Boydston, International Trade Compliance Analyst, Office VI, “Stainless Steel Butt-Weld Pipe Fittings from Italy: Extension of Deadline for Preliminary Results of Antidumping Duty Administrative Review; 2017-2018,” dated October 31, 2018.

³ See Memorandum to the file from Gary Taverman, Deputy Assistant Secretary for Antidumping and Countervailing Duty Operations, performing the non-exclusive functions and duties of the Assistant Secretary for Enforcement and Compliance regarding “Deadlines Affected by the Partial Shutdown of the Federal Government,” dated January 28, 2019. All deadlines in this segment of the proceeding have been extended by 40 days.

For a complete description of the events that followed the initiation of the review, see the Preliminary Decision Memorandum.⁴ A list of topics included in the Preliminary Decision Memorandum is included at the Appendix to this notice. The Preliminary Decision Memorandum is a public document and is on file electronically via Enforcement and Compliance's Antidumping and Countervailing Duty Centralized Electronic Service System (ACCESS). ACCESS is available to registered users at https://access.trade.gov and to all parties in the Central Records Unit, located in Room B8094 of the main Department of Commerce building. In addition, a complete version of the Preliminary Decision Memorandum can be accessed directly at http://enforcement.trade.gov/frn/. The signed and the electronic versions of the Preliminary Decision Memorandum are identical in content.

⁴ See Memorandum, “Decision Memorandum for the Preliminary Results of the Antidumping Duty Administrative Review: Stainless Steel Butt-Weld Pipe Fittings from Italy,” dated concurrently with this notice (Preliminary Decision Memorandum).

Scope of the Order

The merchandise covered by the order is certain stainless steel butt-weld pipe fittings from Italy.⁵ A full description of the scope of the order is contained in the Preliminary Decision Memorandum, which is issued concurrently with these results and hereby adopted by this notice.

⁵ See Antidumping Duty Orders: Stainless Steel Butt-Weld Pipe Fittings from Italy, Malaysia, and the Philippines, 66 FR 11257 (February 23, 2001).

Partial Rescission of Administrative Review

In the Initiation Notice, we initiated a review of two companies. Subsequently, the petitioner withdrew its request for review of Tectubi. No other parties had requested a review of this company. Thus, in response to the petitioner's timely filed withdrawal request and pursuant to 19 CFR 351.213(d)(1), we are rescinding the administrative review with respect to Tectubi.

Methodology

Commerce is conducting this review in accordance with section 751(a)(1)(B) of the Act. In addition, Commerce has relied on partial adverse facts available under section 776(a)-(b) of the Act. For a full description of the methodology underlying the preliminary results, see the Preliminary Decision Memorandum.

Preliminary Results of Review

We preliminarily determine that, for the period February 1, 2017, through January 31, 2018, the following dumping margin exists:

Producer/exporter | Weighted- average dumping margin (percent)
Filmag Italia Spa | 0.00

Disclosure and Public Comment

Commerce intends to disclose to parties to the proceeding any calculations performed in connection with these preliminary results of review within five days after the date of publication of this notice.⁶ Interested parties may submit case briefs to Commerce in response to these preliminary results no later than 30 days after the publication of these preliminary results.⁷ Rebuttal briefs, the content of which is limited to the issues raised in the case briefs, must be filed within five days from the deadline date for the submission of case briefs.⁸

⁶ See 19 CFR 351.224(b)

⁷ See 19 CFR 351.309(c)(1)(ii).

⁸ See 19 CFR 351.309(d)(1) and (2).

Parties who submit arguments in this proceeding are requested to submit with each argument: (1) A statement of the issue; (2) a brief summary of the argument; and (3) a table of authorities.⁹ Case and rebuttal briefs should be filed using ACCESS,¹⁰ and must be served on interested parties.¹¹ Executive summaries should be limited to five pages total, including footnotes.

⁹ See 19 CFR 351.309(c)(2).

¹⁰ See generally 19 CFR 351.303.

¹¹ See 19 CFR 351.303(f).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.¹² Parties should confirm the date, time, and location of the hearing by telephone two days before the scheduled date.

¹² See 19 CFR 351.310(d).

Commerce intends to publish the final results of this administrative review, including the results of its analysis of issues addressed in any case or rebuttal brief, no later than 120 days after publication of these preliminary results, unless extended.¹³

¹³ See section 751(a)(3)(A) of the Act; 19 CFR 351.213(h).

Assessment Rates

Upon completion of the administrative review, Commerce shall determine, and U.S. Customs and Border Protection (CBP) shall assess, antidumping duties on all appropriate entries covered by this review.¹⁴ The final results of this review shall be the basis for the assessment of antidumping duties on entries of merchandise covered by the final results of this review and for future deposits of estimated duties, where applicable.¹⁵ We intend to issue instructions to CBP 15 days after the publication date of the final results of this review.

¹⁴ See 19 CFR 351.212(b).

¹⁵ See section 751(a)(2)(C) of the Act.

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for Filmag will be that established in the final results of this administrative review; (2) for previously reviewed or investigated companies, the cash deposit rate will continue to be the company-specific rate published for the most recent period; (3) if the exporter is not a firm covered in this review, a prior review, or in the investigation but the manufacturer is, the cash deposit rate will be the rate established for the most recent review period for the manufacturer of the merchandise; and (4) the cash deposit rate for all other manufacturers or exporters will continue to be the all-others rate of 26.59 percent, the rate established in the investigation of this proceeding.¹⁶ These cash deposit requirements, when imposed, shall remain in effect until further notice.

¹⁶ See Notice of Final Determination of Sales at Less Than Fair Value: Stainless Steel Butt-Weld Pipe Fittings from Italy, 65 FR 81830 (December 27, 2000).

Notification to Importers

This notice also serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties. We are issuing and publishing this notice in accordance with sections 751(a)(1) and 777(i)(1) of the Act.

Dated: April 9, 2019.
Gary Taverman,
Deputy Assistant Secretary for Antidumping and Countervailing Duty Operations, performing the non-exclusive functions and duties of the Assistant Secretary for Enforcement and Compliance.

Appendix—List of Topics Discussed in the Preliminary Decision Memorandum

1. Summary

2. Background

3. Scope of the Order

4. Application of Partial Facts Available and Use of Adverse Inference

5. Application of Partial Adverse Facts Available (AFA) Due to Unreported Commission Expenses

6. Partial Rescission of Administrative Review

7. Discussion of the Methodology

A. Comparisons to Normal Value

B. Product Comparisons

a. Determination of Comparison Method

b. Results of Differential Pricing Analysis

C. Date of Sale

D. Export Price

E. Normal Value

a. Home Market Viability

b. Level of Trade

c. Cost of Production

1. Calculation of Cost of Production

2. Test of Comparison Market Sales Prices

3. Results of the Cost of Production Test

d. Calculation of Normal Value Based on Comparison Market Prices

e. Price-to-Constructed Value Comparison

F. Currency Conversion

8. Recommendation

[FR Doc. 2019-07924 Filed 4-18-19; 8:45 am]

BILLING CODE 3510-DS-P